DEPARTMENT OF ENERGY

Federal Energy Regulatory Commission

Combined Notice of Filings #1

Take notice that the Commission received the following exempt wholesale generator filings:

Docket Numbers: EG23-266-000.

Applicants: Walnut Bend Solar LLC.

Description: Walnut Bend Solar LLC submits Notice of Self-Certification of Exempt Wholesale Generator Status.

Filed Date: 8/30/23.

Accession Number: 20230830-5031.

Comment Date: 5 p.m. ET 9/20/23.

Docket Numbers: EG23-267-000.

Applicants: SCEF1 Fuel Cell, LLC.

Description: SCEF1 Fuel Cell, LLC submits Notice of Self-Certification of Exempt Wholesale Generator Status.

Filed Date: 8/30/23.

Accession Number: 20230830-5113.

Comment Date: 5 p.m. ET 9/20/23.

Docket Numbers: EG23-268-000.

Applicants: Century Oak Wind Project, LLC.

Description: Century Oak Wind Project, LLC submits Notice of Self-Certification of Exempt Wholesale Generator Status.

Filed Date: 8/30/23.

Accession Number: 20230830-5126.

Comment Date: 5 p.m. ET 9/20/23.

Docket Numbers: EG23-269-000.

Applicants: Longhorn Storage LLC.

Description: Longhorn Storage LLC submits Notice of Self-Certification of Exempt Wholesale Generator Status.

Filed Date: 8/30/23.

Accession Number: 20230830-5135.

Comment Date: 5 p.m. ET 9/20/23.

Docket Numbers: EG23-270-000.

Applicants: Hunter Solar, LLC.

Description: Hunter Solar, LLC submits Notice of Self-Certification of Exempt Wholesale Generator Status.

Filed Date: 8/30/23.

Accession Number: 20230830-5137.

Comment Date: 5 p.m. ET 9/20/23.

Take notice that the Commission received the following Complaints and Compliance filings in EL Dockets:

Docket Numbers: EL23-93-000; QF23-1212-001.

Applicants: Pinellas County, Pinellas County.

Description: Petition for Declaratory Order of Pinellas County, et al.

Filed Date: 8/17/23.

Accession Number: 20230817-5156.

Comment Date: 5 p.m. ET 9/18/23.

Docket Numbers: EL23-94-000.

Applicants: Idaho Power Company v. California Independent System Operator Corporation.

Description: Complaint of Idaho Power Company v. California Independent System Operator Corporation.

Filed Date: 8/29/23.

Accession Number: 20230829-5138.

Comment Date: 5 p.m. ET 9/18/23.

Take notice that the Commission received the following electric rate filings:

Docket Numbers: ER18-1639-025.

Applicants: Constellation Mystic Power, LLC.

Description: Compliance filing: Compliance Filing of 2022 CapEx Settlement Tariff Sheets to be effective 6/1/2022.

Filed Date: 8/30/23.

Accession Number: 20230830-5130.

Comment Date: 5 p.m. ET 9/20/23.

Docket Numbers: ER20-1977-005.

Applicants: Versant Power.

Description: Compliance filing: Joint Offer of Settlement Regarding Maine Public District Charges (ER20-1977-) to be effective N/A.

Filed Date: 8/30/23.

Accession Number: 20230830-5062.

Comment Date: 5 p.m. ET 9/20/23.

Docket Numbers: ER23-2215-001.

Applicants: Southwest Power Pool, Inc.

Description: Tariff Amendment: 3675R4 Doniphan Electric Cooperative Assn, Inc. NITSA NOA to be effective 9/1/2023.

Filed Date: 8/30/23.

Accession Number: 20230830-5069.

Comment Date: 5 p.m. ET 9/20/23.

Docket Numbers: ER23-2222-001.

Applicants: Southwest Power Pool, Inc.

Description: Tariff Amendment: 2881R16 City of Chanute, KS NITSA NOA to be effective 9/1/2023.

Filed Date: 8/30/23.

Accession Number: 20230830-5075.

Comment Date: 5 p.m. ET 9/20/23.

Docket Numbers: ER23-2226-001.

Applicants: Southwest Power Pool, Inc.

Description: Tariff Amendment: 3620R5 Kansas City Board of Public Utilities NITSA NOA to be effective 9/1/2023.

Filed Date: 8/30/23.

Accession Number: 20230830-5080.

Comment Date: 5 p.m. ET 9/20/23.

Docket Numbers: ER23-2254-001.

Applicants: Southwest Power Pool, Inc.

Description: Tariff Amendment: 2562R13 Kansas Municipal Energy Agency NITSA and NOA to be effective 9/1/2023.

Filed Date: 8/30/23.

Accession Number: 20230830-5082.

Comment Date: 5 p.m. ET 9/20/23.

Docket Numbers: ER23-2271-001.

Applicants: Southwest Power Pool, Inc.

Description: Tariff Amendment: 2415R18 Kansas Municipal Energy Agency NITSA and NOA to be effective 9/1/2023.

Filed Date: 8/30/23.

Accession Number: 20230830-5085.

Comment Date: 5 p.m. ET 9/20/23.

Docket Numbers: ER23-2439-000.

Applicants: Cavalier Solar A2, LLC.

Description: Supplement to July 20, 2023, Cavalier Solar A2, LLC tariff filing.

Filed Date: 8/22/23.

Accession Number: 20230822-5176.

Comment Date: 5 p.m. ET 9/11/23.

Docket Numbers: ER23-2724-000.

Applicants: Puget Sound Energy, Inc.

Description: § 205(d) Rate Filing: HF Sinclair NITSA No. 1025, NOA No.1024, IA No. 1023 to be effective 9/1/2023.

Filed Date: 8/29/23.

Accession Number: 20230829-5169.

Comment Date: 5 p.m. ET 9/19/23.

Docket Numbers: ER23-2725-000.

Applicants: PJM Interconnection, L.L.C.

Description: § 205(d) Rate Filing: Original ISA, Service Agreement No. 7055; Queue Nos. AE2-262/AE2-263 to be effective 7/31/2023.

Filed Date: 8/30/23.

Accession Number: 20230830-5008.

Comment Date: 5 p.m. ET 9/20/23.

Docket Numbers: ER23-2726-000.

Applicants: Walnut Bend Solar LLC.

Description: Baseline eTariff Filing: Application for Market-Based Rate Authorization to be effective 10/30/2023.

Filed Date: 8/30/23.

Accession Number: 20230830-5026.

Comment Date: 5 p.m. ET 9/20/23.

Docket Numbers: ER23-2727-000.

Applicants: MidAmerican Energy Company.

Description: § 205(d) Rate Filing: Concurrence in CSA (ITC Midwest RS 203) to be effective 10/29/2023.

Filed Date: 8/30/23.

Accession Number: 20230830-5039.

Comment Date: 5 p.m. ET 9/20/23.

Docket Numbers: ER23-2728-000.

Applicants: All Clean Power, LLC.

Description: Baseline eTariff Filing: Market-Based Rate Tariff Application to be effective 8/31/2023.

Filed Date: 8/30/23.

Accession Number: 20230830-5044.

Comment Date: 5 p.m. ET 9/20/23.

Docket Numbers: ER23-2729-000.

Applicants: Robin Hollow Solar, LLC.

Description: Baseline eTariff Filing: Application For Market Based Rate Authority to be effective 11/1/2023.

Filed Date: 8/30/23.

Accession Number: 20230830-5070.

Comment Date: 5 p.m. ET 9/20/23.

Docket Numbers: ER23-2730-000.

Applicants: Robin Hollow Solar Lessee, LLC.

Description: Baseline eTariff Filing: Application for Market Based Rate Authority to be effective 11/1/2023.

Filed Date: 8/30/23.

Accession Number: 20230830-5071.

Comment Date: 5 p.m. ET 9/20/23.

Docket Numbers: ER23-2731-000.

Applicants: Arizona Public Service Company.

Description: § 205(d) Rate Filing: Rate Schedule No. 317—Generator Replacement Agreement to be effective 10/30/2023.

Filed Date: 8/30/23.

Accession Number: 20230830-5103.

Comment Date: 5 p.m. ET 9/20/23.

Docket Numbers: ER23-2732-000.

Applicants: Hunter Solar, LLC.

Description: Baseline eTariff Filing: Application for Market-Based Rate Authorization to be effective 10/30/2023.

Filed Date: 8/30/23.

Accession Number: 20230830-5131.

Comment Date: 5 p.m. ET 9/20/23.

Docket Numbers: ER23-2733-000.

Applicants: El Paso Electric Company.

Description: § 205(d) Rate Filing: Service Agreement No. 389 LGIA for El Paso Electric to be effective 8/15/2023.

Filed Date: 8/30/23.

Accession Number: 20230830-5134.

Comment Date: 5 p.m. ET 9/20/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 30, 2023.
Debbie-Anne A. Reese,
Deputy Secretary.

[FR Doc. 2023-19168 Filed 9-5-23; 8:45 am]

BILLING CODE 6717-01-P